DEPARTMENT OF LABOR

Employment and Training Administration

[TA-W-61,810]

B.G. Sulzle, Inc., Currently Known as Angiotech America, Inc., Including On-Site Leased Workers From Contemporary Personnel Services (CPS), Staffworks and Tyteffco Industries, North Syracuse, NY; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and a Negative Determination Regarding Eligibility to Apply for Alternative Trade Adjustment Assistance on August 7, 2007, applicable to workers of B.G. Sulzle, Inc., including on-site leased workers from Contemporary Personnel Services and Staffworks, North Syracuse, New York. The notice was published in the Federal Register on August 27, 2007 (72 FR 49024). The notice was amended on September 12, 2008 to include workers wages are report under a separated Unemployment Insurance (UI) tax account for Angiotech America, Inc. The notice as published in the Federal Register on September 23, 2008 (73 FR 54860).

At the request of the State agency, the Department reviewed the certification for workers of the subject firm. The workers are engaged in employment related to the production of stainless steel surgical needles.

New information shows that workers leased from Tyteffco Industries were employed on-site at the North Syracuse, New York location of B.G. Sulzle, Inc. The Department has determined that these workers were sufficiently under the control of B.G. Sulzle, Inc. to be considered leased workers.

Based on this finding, the Department is amending this certification to include workers leased from Tyteffco Industries working on-site at the North Syracuse, New York location of the subject firm.

The intent of the Department's certification is to include all workers employed at B.G. Sulzle, Inc., North Syracuse, New York who were adversely affected by increased imports of stainless steel surgical needles.

The amended notice applicable to TA-W-61,810 is hereby issued as follows:

All workers of B.G. Sulzle, Inc., currently known as Angiotech America, Inc., including on-site leased workers from Contemporary Personnel Services (CPS), Staffworks, and Tyteffco Industries, North Syracuse, New York, who became totally or partially separated from employment on or after July 9, 2006, through August 7, 2009, are eligible to apply for adjustment assistance under Section 223 of the Trade Act of 1974, and are also eligible for alternative trade adjustment assistance under Section 246 of the Trade Act of 1974.

Signed at Washington, DC, this 14th day of May 2008.
Richard Church,
Certifying Officer, Division of Trade Adjustment Assistance.

[FR Doc. 2010-12892 Filed 5-27-10; 8:45 am]

BILLING CODE 4510-FN-P